DEPARTMENT OF AGRICULTURE

Forest Service

Jarbidge Rangeland Project

AGENCY: Forest Service, USDA.

ACTION: Notice of intent to prepare an environmental impact statement.

SUMMARY: The Jarbidge Ranger District, Humboldt-Toiyabe National Forest will prepare an environmental impact statement (EIS) on a proposal to authorize continued livestock grazing in the project area under updated grazing management direction in order to move existing rangeland, riparian, and forest resource conditions toward a set of desired conditions. The project area includes all Forest System lands managed by the Jarbidge Ranger District.

DATES: Comments concerning the scope of the analysis must be received by August 26, 2003. The draft environmental impact statement is expected December 2003 and the final environmental impact statement is expected September 2004.

ADDRESSES: Send written comments to James Winfrey, Project Manager, Humboldt-Toiyabe National Forest, 2035 Last Chance Road, Elko, Nevada 89801.

FOR FURTHER INFORMATION CONTACT: For further information, mail correspondence to or contact James Winfrey, Project Manager, Humboldt-Toiyabe National Forest, 2035 Last Chance Road, Elko, Nevada 89801. The telephone number is 775-778-0229. E-mail address is jwinfrey@fs.fed.us.

Purpose and Need for Action

The Jarbidge Rangeland Project was identified to address livestock grazing and its effects on the overall diversity of fish, wildlife, vegetation species, and rangeland, riparian and watershed condition. While wildlife and natural resource management direction has been evolving over the last decade, livestock management direction and practices have been slower to change. This project is an opportunity to align the livestock management practices in the Jarbidge Rangeland project area with the specific management direction for the other resources in the project area.

The purpose of the Jarbidge Rangeland project is to evaluate current livestock grazing practices in relation to their effects on other resources and, where necessary, adjust those practices to maintain or move toward the desired environmental conditions.

Proposed Action

The Jarbidge Ranger District, Humboldt-Toiyabe National Forest, is proposing to authorize continued livestock grazing in the project area under updated grazing management direction in order to move existing rangeland, riparian, and forest resource conditions toward a set of desired conditions. After scoping and during the analysis phase of this project the interdisciplinary team (IDT) will use the existing rangeland condition and other resources to identify where and how livestock grazing management practices may need to be adjusted to meet the desired conditions.

Possible Alternatives

In addition to the proposed action we have tentatively identified two additional alternatives that will be analyzed in the EIS.

(1) No Action Alternative: This would be continuation of the current grazing management.

(2) No Grazing Alternative: This would be not issuing new grazing permits when existing permits expire.

Responsible Official

Robert L. Vaught, Forest Supervisor, Humboldt-Toiyabe National Forest, 1200 Franklin Way, Sparks, Nevada 89431

Nature of Decision To Be Made

Based on the environmental analysis and disclosure in the EIS, the Forest Supervisor will decide whether or not to continue grazing on the allotments within the Jarbidge Rangeland Project area, and, if the decision is made to continue grazing, then he will also decide which standards, mitigation measures, monitoring criteria, and modifications, should be applied.

Scoping Process

The Forest Service will use a mailing of information to interested parties. Public involvement will be ongoing throughout the analysis process and at certain times public input will be specifically requested. There are currently no scoping meetings planned.

Preliminary Issues

The following are some potential issues identified through internal Forest Service scoping based on our experience with similar projects:

• Livestock grazing has the potential to adversely affect water quality and aquatic habitat.

• Livestock grazing has the potential to adversely affect soils and vegetation, which may result in a decline in condition of wildlife habitats, the long-term availability of forage, and the diversity of species.

• Livestock grazing has the potential to adversely affect riparian habitat conditions and ecologic function.

The list is not considered all-inclusive, but should be viewed as a starting point. We are asking you to help us further refine these issues and identify other issues or concerns relevant to the proposed project.

Comment Requested

The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Dated: June 23, 2003.
Robert L. Vaught,
Forest Supervisor, Humboldt-Toiyabe National Forest.

[FR Doc. 03-16143 Filed 6-25-03; 8:45 am]

BILLING CODE 3410-11-M